BUREAU OF CONSUMER FINANCIAL PROTECTION

Final Language Access Plan for the Consumer Financial Protection Bureau

AGENCY: Bureau of Consumer Financial Protection.

ACTION: Notice of final language access plan.

SUMMARY: Consistent with Executive Order 13166 (Aug. 11, 2000), the Consumer Financial Protection Bureau (Bureau or CFPB) is committed to providing persons with limited English proficiency (LEP) meaningful access to its programs and services. The Language Access Plan describes the Bureau's policy and how the Bureau's language access activities are implemented across the Bureau's operations, programs, and services.

DATES: This information is current as of November 13, 2017.

FOR FURTHER INFORMATION CONTACT: For general inquiries or any additional information, please contact Monica Jackson, Office of the Executive Secretary, at 202-435-7275. For information about the Final Language Access Plan, please contact Meina Banh, Office of Financial Education, at 202-435-7892.

SUPPLEMENTARY INFORMATION:

I. Background

The Dodd-Frank Wall Street Reform and Consumer Protection Act ¹ (Dodd-Frank Act) established the Bureau of Consumer Financial Protection. Section 1021 of the Dodd-Frank Act provides that the purpose of the Bureau is to “implement, and where applicable, enforce Federal consumer financial law consistently for the purpose of ensuring that all consumers have access to markets for consumer financial products and services and that markets for consumer financial products and services are fair, transparent, and competitive.” ²

¹ Public Law 111-203, 124 Stat. 1376 (2010), https://www.treasury.gov/about/organizational-structure/offices/Documents/Dodd%20Frank%20Act.pdf.

² 12 U.S.C. 5511(a).

Listening and responding to consumers is central to the Bureau's purpose of ensuring that all consumers have access to consumer financial products and services. Since its inception, the Bureau has provided consumers with numerous ways to make their voices heard. Consumers nationwide have engaged with the Bureau through public field hearings, listening events, roundtables, town halls, online through the Web site ConsumerFinance.gov, and through the Bureau's Office of Consumer Response. The Bureau has also sought input from a range of stakeholders, including financial educators, community-based organizations, financial institutions, and others about challenges that consumers face, effective approaches to overcoming those challenges, and what the Bureau can do to improve the financial decision-making process of consumers to help them better navigate the marketplace of financial products and services to reach their own goals.³ This engagement informs the work of the Bureau.

³ CFPB, Feedback from the Financial Education Field (2013), http://files.consumerfinance.gov/f/201305_cfpb_OFE-request-for-information-report.pdf.

This engagement would be incomplete without efforts to include limited English proficiency (LEP) persons. More than 65 million people, or about 21 percent of the U.S. population over the age of five, speak a language other than English at home.⁴ Of this, more than 26 million people in the U.S. have limited proficiency in English.⁵ Individuals are generally considered to have limited English proficiency if they speak a language other than English at home and speak English less than “very well.” ⁶ Spanish is the most commonly spoken non-English language at home with approximately 40 million speakers.⁷ Spanish speakers also constitute the largest share of the LEP population, followed by Chinese, Vietnamese, Korean, and Tagalog speakers. These five languages are spoken by more than 78 percent of LEP individuals. Studies by federal agencies and other stakeholders have highlighted that the receipt of materials in consumers' native languages is essential to increasing these consumers' knowledge about financial products and services.

⁴ U.S. Census Bureau, 2016 American Community Survey 1-Year Estimates, Language Spoken At Home by Ability to Speak English for the Population 5 Years and Over (“2016 ACS Home Language Data”), https://factfinder.census.gov/faces/tableservices/jsf/pages/productview.xhtml?pid=ACS_15_5YR_B16001&prodType=table.

⁵ Id.

⁶ See Paul Siegel et al., U.S. Census Bureau, Language Use and Linguistic Isolation: Historical Data and Methodological Issues (2001), https://www.census.gov/srd/papers/pdf/ssm2007-02.pdf.

⁷ 2016 ACS Home Language Data.

The Federal Deposit Insurance Corporation's (FDIC) biennial survey on unbanked and underbanked households consistently shows that households where Spanish is the only language spoken were unbanked at five times the rate of households where Spanish is not the only language spoken.⁸ The most recent survey found that 31 percent of Spanish-speaking households were unbanked compared to 6.5 percent of other households.⁹ Nearly a third of Spanish-speaking households in the survey were underbanked,¹⁰ compared to a fifth of other households. Household members who speak English as a second language, or who cannot read English, are particularly disadvantaged in their ability to review and understand financial documents and other important notifications.¹¹ The CFPB conducted research on the financial education needs of immigrants, including those with limited English proficiency.¹² The CFPB identified one of the challenges to be that many technical terms common to the U.S. financial system either do not have equivalent terms in languages other than English or do have equivalent terms that, when translated, may confuse LEP consumers. Further, the Government Accountability Office (GAO) examined the extent to which LEP individuals are impeded in their financial literacy and conduct of financial affairs.¹³ The GAO's report indicated that a lack of proficiency in English can create significant barriers to financial literacy and to conducting basic financial affairs.¹⁴

⁸ “Unbanked households” means that “no one in the household had a checking or savings account.” Susan Burhouse et al., FDIC, 2015 FDIC National Survey of Unbanked and Underbanked Households (2016), https://www.fdic.gov/householdsurvey/2015/2015report.pdf.

⁹ Susan Burhouse et al., FDIC, 2015 FDIC National Survey of Unbanked and Underbanked Households Appendix Tables (2016), https://www.fdic.gov/householdsurvey/2015/2015appendix.pdf.

¹⁰ “Underbanked” means having an account at an insured institution but also obtaining financial services and products outside of the banking system. See id. at 8 n.13.

¹¹ See id. at 8 n.14.

¹² CFPB, Financial Education Programs Serving Immigrant Populations (2016), https://www.consumerfinance.gov/about-us/blog/immigrants-facing-unique-financial-challenges.

¹³ GAO, Consumer Finance: Factors Affecting the Financial Literacy of Individuals with Limited English Proficiency (2010), http://www.gao.gov/products/GAO-10-518.

¹⁴ See id. at n. 8.

Consistent with Executive Order 13166 and the Bureau's mission, the Bureau adopts this Final Language Access Plan to provide LEP individuals meaningful access to the Bureau's services.

II. Summary the Final Language Access Plan

On October 8, 2014, the CFPB released a Proposed Language Access Plan for public comment.¹⁵ The comment period closed on January 6, 2015. The CFPB received 31 comments on the Proposed Language Access Plan. Commenters provided suggestions to the Bureau about improving outreach to LEP communities, including suggestions for improving the gathering of data about the linguistic needs and preferences of consumers accessing the CFPB's programs and resources; hiring multilingual staff; improving the Bureau's data collection on race and ethnicity; and suggestions for the Bureau to apply supervisory and enforcement authorities to language access-related activities.

¹⁵ 79 FR 60840 (Oct. 8, 2014), https://www.federalregister.gov/documents/2014/10/08/2014-24122/proposed-language-access-plan-for-the-consumer-financial-protection-bureau.

The Bureau considered the comments it received. Since the release of the Proposed Language Access Plan, the Bureau has made a number of additional efforts to provide LEP consumers meaningful access to information produced by the Bureau. The final plan is also informed by those efforts. The Bureau considered the following factors in drafting this Final Language Access Plan: (1) The number or proportion of LEP persons who would not receive the Bureau's services without efforts to remove language barriers; (2) the frequency and number of contacts by LEP persons with the Bureau's services; (3) the nature and importance of the services provided by the Bureau to people's financial lives; and (4) the resources available to the Bureau to provide services to LEP persons. Under the Language Access Plan, the Bureau provides LEP individuals access to information, services, activities, and programs by translating consumer-facing documents into select foreign languages and handling complaints from consumers about consumer financial products and services in more than 180 languages.

III. Related Matters of Interest

A. Language Access Task Force

The Bureau has created a Language Access Task Force, an internal cross-divisional working group aimed at developing and executing a Bureau-wide strategy to provide LEP consumers meaningful access to information produced by the Bureau. The Language Access Task Force coordinates internally, ensures consistency within the Bureau in its communications with LEP individuals, and informs the Bureau's work to engage with LEP consumers.

B. Handling Complaints From Consumers About Consumer Financial Products and Services

The Bureau's Office of Consumer Response hears directly from consumers about the challenges they face in the marketplace and brings consumers' concerns to the attention of consumer financial product or service providers. The Office of Consumer Response currently accepts complaints about a wide variety of financial products and services and can assist consumers with complaints in more than 180 languages. Consumers have the choice to receive written communications in Spanish. The Bureau may also refer consumers to other regulators and resources, as needed.

C. Incorporation of Translation and Interpretation in Bureau Supervision and Enforcement

The Bureau utilizes translation and interpretation services, as appropriate, during the course of supervisory examinations and enforcement investigations. The Bureau may utilize these services when conducting interviews and consulting with LEP consumer witnesses, whistleblowers, and employees of regulated entities; when reviewing non-English documents and telephone call recordings; and when providing information to the public on matters that may affect LEP consumers, as appropriate.

D. Informing and Educating Consumers in the Financial Marketplace

One of the Bureau's goals is to give consumers practical, actionable information that they can use in pursuing their own financial goals and in making financial decisions. The Bureau offers information and tools to help consumers build the financial knowledge and skills that they need to make well-informed financial decisions for themselves and their families to serve their own financial goals. For the LEP community, this includes access in consumers' native languages to consumer financial education materials. The Bureau offers this information directly through its Web site and its Spanish-translated Web site and has also made it available to LEP consumers through community service channels and at community roundtables throughout the country.

The Bureau offers free printed financial education materials translated into various languages for LEP consumers, which are distributed by both the Bureau and others who serve LEP consumers. To date, the CFPB has routinely translated its most frequently requested brochures into Spanish. Certain publications are also available in Chinese, French, Haitian Créole, Tagalog, Chinese, Korean, Vietnamese, Russian, and Arabic. For download or free bulk orders, interested persons can visit pueblo.gpo.gov/CFPBPubs/CFPBPubs.php.

Web-Based Tools and Resources for Consumers

• Ask CFPB: An interactive online tool that gives consumers answers to questions about financial products and services, including credit cards, mortgages, student loans, bank accounts, credit reports, payday loans, and debt collection. Ask CFPB is available in Spanish at consumerfinance.gov/es/obtener-respuestas/.

• CFPB en Español: CFPB en Español provides Spanish-speaking consumers a central point of access to the CFPB's most-used consumer resources, translated into Spanish. This page offers Ask CFPB en Español; a consumer complaints page that highlights the complaint process and the phone number consumers can call to submit a complaint in Spanish; an “about us” page with Spanish-language videos and introductory content about how the CFPB works to protect consumers; and a home page that offers details on the CFPB's resources for consumers in search of a mortgage and those who already own a home. CFPB en Español can be found at consumerfinance.gov/es/.

• Submit a complaint: To submit a complaint about a consumer financial product or service, consumers can visit consumerfinance.gov/complaint/ or call toll-free at (855) 411-CFPB (2372). The CFPB accepts complaints in more than 180 languages. The CFPB forwards the complaint to the company and works to get a response from them—generally within 15 days. When the company responds, the consumer can review the response and give the CFPB feedback. If another government agency would be better able to assist, the CFPB forwards the complaint to that agency and lets the consumer know.

• Planning for Retirement: This is an interactive educational online tool designed to help consumers make an informed decision about when to claim their Social Security retirement benefits. The tool gives consumers a rough estimate of their monthly benefit, shows how their monthly benefit changes depending on the age at which they claim, estimates what they can expect to receive at different ages, and provides tips relevant to their situation. Planifique para su Jubilación is the Spanish version of Planning for Retirement, which can be found at consumerfinance.gov/retirement/before-you-claim/es/. The English version can be found at consumerfinance.gov/retirement/before-you-claim/.

• Your home loan toolkit: A step-by-step guide: The Dodd-Frank Act amended the Real Estate Settlement Procedures Act (RESPA) to, among other things, provide that the Bureau's Director shall “prepare the booklet in various languages and cultural styles, as the Director determines to be appropriate, so that the booklet is understandable and accessible to homebuyers of different ethnic and cultural backgrounds.” ¹⁶ To support this mandate, the toolkit guides consumers through the process of shopping for a mortgage and buying a home and is available from the Bureau in both English and Spanish.¹⁷

¹⁶ 12 U.S.C. 2604(a).

¹⁷ The booklet is available in English at http://files.consumerfinance.gov/f/201503_cfpb_your-home-loan-toolkit-web.pdf and in Spanish at http://files.consumerfinance.gov/f/201507_cfpb_your-home-loan-toolkit-web-spanish.pdf.

• Debt collection action letters: The Bureau published five different action letters in Spanish that provided consumers with instructions on how to send an English language version of the same letter to communicate with a debt collector which can be found here consumerfinance.gov/consumer-tools/debt-collection/.

Web-Based Tools and Resources for Financial Educators and Others Who Work With Consumers

• Your Money, Your Goals: A financial empowerment toolkit that organizations can use to incorporate financial capability information and tools into their discussions with the people they serve to help them strengthen their financial capability and personal money management skills. The toolkit is available in English and Spanish at consumerfinance.gov/practitioner-resources/your-money-your-goals/.

• Money as You Grow: This is a Web site for parents and caregivers who want to help their children develop money skills. The Money as You Grow Web site identifies key stages of childhood financial development, based on the CFPB's developmental model for youth financial capability. The Web site offers practical, age-appropriate activities and conversation starters designed to help parents and caregivers learn techniques for encouraging their kids to develop positive financial knowledge, skills, and attitudes. The Web site is available in English at consumerfinance.gov/consumer-tools/money-as-you-grow/ and in Spanish at consumerfinance.gov/es/el-dinero-mientras-creces/.

CFPB Brochures

• The CFPB has created a range of publications for consumers that provide straightforward information about money management and other financial issues. These publications include brochures about checking a credit report, avoiding checking account fees, tax time savings, how to avoid foreclosure, what consumers can do when they are unable to pay credit card bills, and other topics. The CFPB makes many of these resources available in English, Spanish, and eight other languages and provides them for download or free bulk ordering at pueblo.gpo.gov/CFPBPubs/CFPBPubs.php.

• CFPB bookmarks: Two bookmarks highlight the Ask CFPB tool and encourage consumers to share their experiences with financial products through the CFPB's Tell Your Story tool. The bookmarks are also available in Spanish.

• Submit a complaint: This brochure explains how to submit a complaint to the CFPB. It covers contact information, the consumer financial products and services about which the CFPB takes complaints, and what happens after a consumer submits a complaint. This brochure is also available in Spanish.

Accounts

• Newcomer's Guides to Managing Money: The guides provide information about ways to pay bills, receive money, open a bank account, and compare financial products. These guides are available in English, Spanish, Arabic, Chinese, Tagalog, Vietnamese, Korean, Russian, French and Haitian Créole.

• Know your overdraft options: This brochure explains debit card and ATM overdraft coverage and fees as well as tips and options to reduce or avoid fees. This brochure is also available in Spanish.

• Keep a lid on checking account fees: This brochure outlines six steps to help consumers reduce checking account fees and is also available in Spanish.

• Moving your checking account checklist: This brochure is a 10-step checklist to help consumers close their current checking account and open a new checking account. This brochure is also available in Spanish.

Credit

• Act fast if you can't pay your credit cards: This brochure provides three steps consumers can take when they do not have enough money to pay their credit card bill and information about how to avoid debt-relief scams. This brochure is also available in Spanish.

• Credit discrimination is illegal: This brochure describes warning signs of credit discrimination and what consumers can do if they believe they have been discriminated against. This brochure is also available in Spanish.

• How to rebuild your credit: This brochure outlines steps that can help you recover from a financial challenge that hurt your credit and is also available in Spanish.

• Helping consumers understand credit discrimination: This brochure helps consumers better understand their rights under the Equal Credit Opportunity Act (ECOA). This brochure is also available in Spanish for download only.

• Find the best credit card for you: This brochure highlights four steps to shopping for a credit card, provides definitions of credit card terms, and is also available in Spanish.

• How to stop mystery credit card fees: This consumer advisory educates consumers about credit card add-on services and is also available in Spanish.

• Check your credit report at least once a year: This brochure describes how consumers can check their credit reports from the three nationwide credit reporting companies for free to find and dispute mistakes, update personal information, and guard against identity theft. This brochure is also available in Spanish.

• You have a right to see specialty credit reports: Specialty credit reporting companies collect and report credit history information about consumers. This consumer advisory informs consumers about their right to get free reports from these companies every 12 months and is also available in Spanish.

• How to fix mistakes in your credit card bill: This brochure outlines five steps to dispute incorrect charges or fees on a credit card bill and is also available in Spanish.

• Know your rights when a debt collector calls: This brochure highlights steps consumers can take when a debt collector calls and explains what to ask and how consumers can protect themselves. This brochure is also available in Spanish.

• Understand your credit score: This brochure explains what factors determine a credit score, what consumers can do to raise their score, and how to check credit reports and fix mistakes. This brochure is also available in Spanish.

• Watch accounts closely when card data is hacked: This brochure describes how consumers can keep a close eye on account activity and report suspicious transactions quickly and is also available in Spanish.

Money Management

• Save some & spend some: This brochure explains free and easy ways consumers can split their tax refunds between checking and savings accounts and purchase U.S. savings bonds so they can spend some and save some of their refunds. This brochure is also available in Spanish.

• How to spot frauds and scams: This brochure identifies common tactics that scammers use and is also available in Spanish.

• Your disaster checklist: This checklist helps consumers gather the financial information they would need after an emergency. It contains spaces for account information and customer service numbers as well as checklists of important documents they should have in case of an emergency. This checklist is also available in Spanish.

• Choosing your student loan: This brochure provides three steps to help guide consumers toward the student loans that are best for them and is also available in Spanish.

• Manage your college money: This brochure explains how to choose and manage an account for college money, so consumers can avoid unexpected fees and get financial aid disbursements quickly. This brochure is also available in Spanish.

• SAVED: Five steps for making financial decisions: This brochure provides five steps to help consumers find the best deal when buying a financial product or service. This brochure is also available in Spanish.

Remittances

The Bureau's first substantive rule provided important new consumer protections to users of international money transfers, or remittances. Many of these users are LEP consumers who send money to family and friends abroad. The Bureau developed a comprehensive outreach and education campaign to educate consumers about the protections for remittance transfers. These materials are available in English, Spanish, Haitian Créole, Chinese, and Tagalog.

• Remittance transfer rule factsheet for stakeholders: This fact sheet is designed to help stakeholders such as financial counselors, instructors, and others understand and explain the remittance transfer rule and its protections for consumers. It explains when the rule applies, who is subject to the rule, what information consumers should receive, and what consumers can do if errors occur.

• Send money abroad with more confidence flyer: This flyer tells senders of remittance transfers that protections are available to them and provides the CFPB's phone number and web address for more information.

• Send money abroad with more confidence poster: This poster tells senders of remittance transfers that consumer protections are available to them and provides the CFPB's phone number and Web site address for more information.

• Send money abroad with more confidence brochure: This brochure outlines the consumer protections available to senders of remittance transfers. It tells consumers that not all companies that transmit money abroad are covered by the Federal rule.

• Send money abroad with more confidence fact sheet: This fact sheet provides a more detailed explanation of the consumer protections that apply when consumers send remittance transfers covered by the CFPB's remittance transfer rule.

Mortgages

• Shopping for a mortgage? What you can expect under Federal rules: This 18-page booklet explains the Federal rules that protect consumers when they are shopping for a new mortgage. This booklet is also available in Spanish, Chinese, French, Haitian Créole, Korean, and Tagalog.

• How to avoid foreclosure: This brochure explains steps to take when having trouble paying the mortgage and is also available in Spanish.

• Have a mortgage? What you can expect under Federal rules: This 11-page booklet explains the Federal rules that protect consumers as they manage their mortgage payments. This booklet is also available in Spanish, Chinese, French, Haitian Créole, Korean, and Tagalog.

• Considering a reverse mortgage?: This brochure explains how a reverse mortgage works and outlines important questions consumers can ask when talking to a housing counselor or other adviser about their reverse mortgage options and alternatives. The CFPB also offers a plain-language guide to reverse mortgages for consumers on the CFPB's Web site in Spanish.¹⁸ The guide highlights key decision points to help potential reverse mortgage borrowers assess the financial ramifications of securing a reverse mortgage.

¹⁸ The Spanish guide can be found at http://www.consumerfinance.gov/f/201411_cfpb_guide_considering-reverse-mortgage-guide_spanish.pdf.

• Don't get scammed: How to spot and avoid mortgage assistance and foreclosure relief scams: This brochure explains mortgage relief scams, offers tips on how to spot and avoid them, explains how to get help, and is also available in Spanish.

• Ready to buy a home?: This checklist of questions helps consumers understand whether they are financially prepared for the responsibility of homeownership and is also available in Spanish.

• Should I refinance?: This brochure helps homeowners consider warning signs about their current mortgage situation, review financial goals and potential outcomes, and determine whether refinancing their mortgage makes sense. This brochure is also available in Spanish.

Older Consumers

• Know your financial adviser: This brochure provides questions older consumers can ask to determine if their financial adviser is really an expert in senior financial planning and is also available in Spanish.

• Managing someone else's money: Guides for financial caregivers, particularly those who handle the finances of older Americans, to help them carry out their duties and responsibilities in managing someone else's money. This includes agents under power of attorney, court-appointed guardians and conservators, trustees, and government-benefit fiduciaries (Social Security representative payees and VA fiduciaries). The guides explain the duties and responsibilities of people acting in each of these fiduciary roles, how to watch out for scams and financial exploitation, what to do if a family member or friend is a victim, and where to go for help. Cómo Administar el Dinero de Otras Personas, the Spanish version, is a set of four guides for financial caregivers. These guides can be offered by community organizations around the country that interact with older adults, family members, or caregivers.¹⁹

¹⁹ The English guides can be found at https://www.consumerfinance.gov/consumer-tools/managing-someone-elses-money/, and the Spanish guides can be found at https://www.consumerfinance.gov/about-us/blog/resources-in-spanish-that-could-help-thousands-of-older-hispanics-spot-financial-exploitation-and-scams/.

• Money Smart for Older Adults: The CFPB and the FDIC collaborated to publish Money Smart for Older Adults, an instructor-led training about preventing and responding to elder financial exploitation such as scams and identity theft. It also includes resources on preparing financially for unexpected life events. This resource is available in English and in Spanish (Money Smart para Adultos Mayores).²⁰

²⁰ The English guides can be found at https://www.fdic.gov/consumers/consumer/moneysmart/olderadult.html, and the Spanish guides can be found at https://www.fdic.gov/consumers/consumer/moneysmartsp/mayores.html.

• You have the right to be free from scams: This is a placemat with consumer protection tips. The placemat can be used in meal delivery services, congregate care facilities, or be shared with family and friends. This resource is also available in Spanish.

Other

• Unwrapping gift cards: Know the terms and avoid surprises: This brochure explains the types of gift cards and the protections consumers have. It explains what consumers can do when they give or get gift cards in order to understand the terms and conditions. This brochure is also available in Spanish.

E. Outreach and Stakeholder Engagement

The Bureau works with key stakeholders within LEP communities, such as community-based organizations, to help make the consumers they serve aware of the Bureau's resources and tools. The Bureau holds meetings with consumer groups, community service organizations, and financial institutions to discuss the challenges LEP consumers face.

Additional Bureau resources that can be utilized by all stakeholders include:

• Language glossaries: The Bureau published glossaries of financial terms translated from English into Spanish and Chinese as a resource tool. Stakeholders that may be interested in using this tool include financial educators, government agencies, financial service providers, and other organizations serving LEP consumers. The glossary of terms is not a mandate, guide, or a requirement.²¹

²¹ The CFPB's Glossary of English-Spanish Financial Terms can be found at https://www.consumerfinance.gov/documents/5542/cfpb_adult-fin-ed_spanish-style-guide-glossary.pdf, and The CFPB's Glossary of English-Chinese Financial Terms can be found at https://www.consumerfinance.gov/documents/5540/cfpb_adult-fin-ed_chinese-style-guide-glossary.pdf.

• Field scan of financial education programs serving immigrant populations: The Office of Financial Education conducted a field scan of programs, practices, and initiatives that serve immigrant populations. The field scan helps inform the Bureau's financial-education initiatives and raises visibility about the financial education challenges that many immigrants face. The field scan also outlines promising financial education strategies that financial education providers can use to better serve immigrants who seek their services and are part of their communities. The ultimate goal is to help consumers achieve their own financial goals. The field scan was released in summer 2016 and can be found at consumerfinance.gov/data-research/research-reports/financial-education-programs-serving-immigrant-populations/.

F. Language Access and Regulations

A few of the Bureau's major rules address language access by, in accordance with pre-existing law, permitting required disclosures to be provided in a language other than English, as long as the disclosures are also made available in English.²² A few other Bureau rules provide more specific guidance about facilitating access for LEP consumers to markets for consumer financial products and services and helping ensure that such markets are fair, transparent, and competitive. For example, the Bureau's TILA-RESPA Integrated Disclosure (TRID) Rule explicitly permits creditors to translate certain mortgage disclosures into languages other than English and provides consumer-tested Spanish language translations of those mortgage disclosures.²³ Pursuant to the Dodd-Frank Act, the Bureau's Remittance Transfer Rule provides that certain advertising, soliciting, or marketing of remittance transfer services in a foreign language triggers the requirement to provide remittance disclosures in that language.²⁴ The Bureau's Prepaid Rule, issued in October 2016, similarly provides that principally using a foreign language to, among other things, advertise, solicit, or market a prepaid account may trigger a requirement to provide certain disclosures in that language.²⁵

²² See, e.g., 12 CFR 1002.4(e) (Regulation B), 1005.4(a)(2) (Regulation E), 1024.32(a)(2) (Regulation X), and 1026.27 (Regulation Z). Most Bureau regulations may be found at https://www.consumerfinance.gov/eregulations/.

²³ See 12 CFR 1026.37(o)(5)(ii), 1026.38(t)(5)(viii), and appendix H-28.

²⁴ See 12 CFR 1005.31(g).

²⁵ See 81 FR 83934, 84334 (Nov. 22, 2016). This requirement may be found in Regulation E, 12 CFR 1005.18(b)(9), when the Prepaid Rule goes into effect.

IV. Regulatory Requirements

This Language Access Plan articulates the Bureau's commitment to providing LEP persons with meaningful access to its programs and services. It is therefore exempt from the notice and comment rulemaking requirements under the Administrative Procedure Act. See 5 U.S.C. 553(b).

Because no notice of proposed rulemaking is required, the Regulatory Flexibility Act does not require an initial or final regulatory flexibility analysis. See 5 U.S.C. 603(a), 604(a).

The Bureau has determined that this Language Access Plan does not impose any new or revise any existing recordkeeping, reporting, or disclosure requirements on covered entities or members of the public that would be collections of information requiring OMB approval under the Paperwork Reduction Act, 44 U.S.C. 3501-3521.

Final Language Access Plan

The text of the Final Language Access Plan follows:

Consistent with Executive Order 13166 (Aug. 11, 2000), this document establishes the Language Access Plan of the Consumer Financial Protection Bureau (the Bureau or CFPB) for providing meaningful access to the CFPB's services to limited English proficiency (LEP) persons (individuals who do not speak English as their primary language and who have a limited ability to speak, write, or understand English).

The CFPB is committed to the accessibility of its services to LEP persons. In developing this Language Access Plan, the CFPB engaged stakeholders in October 2014 by releasing a Proposed Language Access Plan for public comment to understand the opportunities to serve LEP persons and to ensure LEP individuals have access to the CFPB's programs and services.

To ensure meaningful access, the Bureau considers the following factors: (1) The number or proportion of LEP persons who would not receive the Bureau's services without efforts to remove language barriers; (2) the frequency and number of contacts by LEP persons with the Bureau's services; (3) the nature and importance of the services provided by the Bureau to people's financial lives; and (4) the resources available to the Bureau (including cost-benefit analysis) to provide services to LEP persons.

The CFPB provides LEP individuals with access to information, services, activities, and programs through the following activities:

Offering Translated Consumer-Facing Brochures

The Bureau translates selected consumer-facing brochures into the most frequently encountered languages, as established by U.S. Census Bureau data or based on specific issues affecting a particular group of LEP individuals. The Bureau publishes a wider range of consumer-facing brochures in Spanish, which accounts for the second-largest language group in the United States. Translating public-facing brochures into the languages most frequently encountered is important when reaching LEP individuals.²⁶ Spanish speakers constitute nearly 64 percent of the LEP population, so the Bureau translates many consumer-facing materials into Spanish.²⁷ The CFPB has also translated brochures, fact sheets, and other materials about certain topics into Chinese, French, French Créole, Korean, Tagalog, Vietnamese, Russian, and Arabic. The Bureau reviews translated materials to ensure quality and accuracy.

²⁶ Spanish, Chinese, Tagalog, Vietnamese, Arabic, French, Korean, and Russian are the most common languages other than English that are spoken in the United States. See 2016 ACS Home Language Data.

²⁷ Id.

Handling Complaints From Consumers About Consumer Financial Products and Services in Multiple Languages

The Bureau's Office of Consumer Response hears directly from consumers about the challenges they face in the marketplace and brings consumers' complaints to the attention of consumer financial product or service providers. The CFPB currently accepts complaints about a wide variety of financial products and services and can assist consumers with complaints in more than 180 languages. Consumers have the choice to receive written communications in Spanish. The Bureau may also refer consumers to other regulators and resources, as needed.

Dated: November 13, 2017.
Richard Cordray,
Director, Bureau of Consumer Financial Protection.

[FR Doc. 2017-24854 Filed 11-15-17; 8:45 am]

BILLING CODE 4810-AM-P